FEDERAL COMMUNICATIONS COMMISSION

47 CFR Part 73

[DA 02-247; MM Docket No. 01-121, RM-10125]

Radio Broadcasting Services; Manning, Moncks Corner, SC

AGENCY: Federal Communications Commission.

ACTION: Final rule.

SUMMARY: In this document, the Commission grants a petition for rule making filed by Cumulus Licensing Corp., succeeded by Apex Communications, licensee of Station WHLZ (FM), Manning, South Carolina and reallots Channel 223C from Manning to Moncks Corner, South Carolina, and modifies the license of Station WHLZ to reflect the change of community. Channel 223C can be allotted at Station WHLZ (FM)'s existing site 37.7 kilometers (23.4 miles) north of the community. Coordinates for Channel 223C at Moncks Corner are 33-32-05 NL and 79-59-15 WL.

DATES: Effective March 18, 2002.

FOR FURTHER INFORMATION CONTACT: Victoria M. McCauley, Mass Media Bureau, (202) 418-2180.

SUPPLEMENTARY INFORMATION: This is a synopsis of the Commission's Report and Order, MM Docket No. 01-121, adopted January 23, 2002 and released February 1, 2002. The full text of this document is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCASTING SERVICES

1. The authority citation for part 73 continues to read as follows:

Authority: 47 U.S.C. 154, 303, 334 and 336.

§ 73.202 [Amended]

2. Section 73.202(b), the Table of FM Allotments under South Carolina, is amended by removing Manning, Channel 223C and Channel 233C at Moncks Corner, and adding Channel 223C at Moncks Corner.

Federal Communications Commission.
John A. Karousos,
Chief, Allocations Branch, Policy and Rules Division, Mass Media Bureau.

[FR Doc. 02-7565 Filed 3-28-02; 8:45 am]

BILLING CODE 6712-01-P